ENVIRONMENTAL PROTECTION AGENCY

[FRL12266-01-OAR]

Clean Air Act Advisory Committee

AGENCY: Environmental Protection Agency (EPA).

ACTION: Notice of charter renewal.

SUMMARY: Notice is hereby given that the Environmental Protection Agency (EPA) has determined that, in accordance with the provisions of the Federal Advisory Committee Act (FACA), the Clean Air Act Advisory Committee (CAAAC) is necessary and in the public interest in connection with the performance of duties imposed on the agency by law. Accordingly, CAAAC will be renewed for an additional two-year period. The purpose of the CAAAC is to provide advice and recommendations to the EPA Administrator on policy issues associated with implementation of the Clean Air Act. Inquiries may be directed to Lorraine Reddick, CAAAC Designated Federal Officer, U.S. EPA, 1200 Pennsylvania Avenue NW (6101), Washington, DC 20460, or by email to reddick.lorraine@epa.gov.

Joseph Goffman,
Assistant Administrator.

[FR Doc. 2024-21263 Filed 9-17-24; 8:45 am]

BILLING CODE 6560-50-P